DEPARTMENT OF TRANSPORTATION

Coast Guard

[USCG 2000-7821]

Information Collections Under Review by the Office of Management and Budget (OMB): 2115-0628 and 2115-0015

AGENCY: Coast Guard, DOT.

ACTION: Request for comments.

SUMMARY: In compliance with the Paperwork Reduction Act of 1995, this request for comments announces that the Coast Guard has forwarded the two Information Collection Reports (ICRs) abstracted below to OMB for review and comment. Our ICRs describe the information we seek to collect from the public. Review and comment by OMB ensure that we impose only paperwork burdens commensurate with our performance of duties.

DATES: Please submit comments on or before May 14, 2001.

ADDRESSES: Please send comments to (1) the Docket Management System (DMS), U.S. Department of Transportation (DOT), room PL-401, 400 Seventh Street S.W., Washington, DC 20590-0001; and (2) the Office of Information and Regulatory Affairs (OIRA), Office of Management and Budget (OMB), 725 17th Street N.W., Washington, DC 20503, to the attention of the Desk Officer for the USCG.

Copies of the complete ICRs are available for inspection and copying in public docket USCG 2000-7821 of the Docket Management Facility between 10 a.m. and 5 p.m., Monday through Friday, except Federal holidays; for inspection and printing on the internet at http://dms.dot.gov; and for inspection from the Commandant (G-CIM-2), U.S. Coast Guard, room 6106, 2100 Second Street S.W., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Regulatory History

This request constitutes the 30-day notice required by OMB. The Coast Guard has already published [65 FR 54880 (September 11, 2000)] the 60-day notice required by OMB. That notice elicited a comment for each of the two ICRs it covered.

The comment that concerned ICR 2115-0628—Navigation Safety Equipment and Emergency Instructions for Certain Towing Vessels—suggested that: (1) The frequency of certain required safety checks on towing vessels is inadequate; (2) a format for recording information is needed; (3) certain data in the statement supporting the ICR are inaccurate; (4) the Coast Guard should revise the requirements in various respects; (5) the cost estimate for this ICR is overstated; and (6) the Coast Guard should be collecting more information related to fire-protection measures for towing vessels than it is.

The Coast Guard has reviewed the comment and finds that: (1) The frequency of the safety checks is adequate but that the rules do not preclude an operator from conducting added checks if he or she deems them appropriate; (2) a prescriptive format for recording information is not needed, because we determined that the operator should retain the flexibility to decide how best to fit the required entries into an existing log-keeping system; (3) a correction to the statement supporting the ICR is indeed necessary, and we have made it; (4) the Coast Guard is processing a previous request by the submitter on this subject as a petition for rulemaking; (5) the cost estimate is realistic as is clear from a review of the estimate by the program office; and (6) this issue is under review by the program office. On January 3, 2001, we replied to the submitter and sent a copy to OMB.

The comment that concerned ICR 2115-0015—Shipping Articles—raised several questions regarding the form for Shipping Articles (CG-705A). The questions fell into three general areas:

• Whether the Coast Guard would update the form;

• Whether the Coast Guard reviews the forms submitted and compiles statistics; and

• What means of enforcement the statutes provide.

With respect to updating, the program office rersponds that the form is functional as it stands and that most users are providing the information on their own forms as permitted by rule. While citations to the U.S. Code on the current CG-705A are dated, the statutes themselves have not changed in substance, and current editions of the U.S. Code cross-refer the reader to the Revised Statutes (old editions).

With respect to statistics, the program office responds that it holds these statutorily required forms for record purposes and does not routinely review them. The shipping companies do hold them for 3 years before submitting them to the Coast Guard for archiving. We need not review them without good cause nor need we compile statistics regarding their use. The forms provide basic protections to merchant seamen in their employment aboard U.S.-flag commercial vessels.

With respect to means of enforcement for failure to post or submit articles, the program office responds that the statutes vary depending on whether the particular voyage is coastwise rather than foreign or intercoastal. The statute covering coastwise voyages limits enforcement to the master of the vessel while the other statute permits wider discretion over enforcement. On February 23, 2001, we replied to the submitter and sent a copy to OMB.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2000-7821. Comments to OIRA are best assured of having their full effect if OIRA receives them 30 or fewer days after the publication of this request.

Information Collection Requests

1. Title: Navigation Safety Equipment and Emergency Instructions for Certain Towing Vessels.

OMB Control Number: 2115-0628.

Type of Request: Extension of a currently approved collection.

Affected Public: Owners, operators, and masters of vessels.

Forms: This collection of information does not require the public to fill out Coast Guard forms, but does require owners, operators, and masters of vessels to have on board the vessel, or where appropriate in company files, Navigation Safety Equipment, a Muster List, and Emergency Instructions, for the Coast Guard to inspect.

Abstract: Rules on navigational-safety equipment help assure that the mariner piloting a towing vessel has adequate equipment, charts, maps, and other publications. For inspected towing vessels, a muster list and emergency instructions provide effective plans and references for crew to follow in an emergency.

Annual Estimated Burden Hours: The estimated burden is 281,998 hours a year.

2. Title: Shipping Articles.

OMB Control Number: 2115-0015.

Type of Request: Extension of a currently approved collection.

Affected Public: Merchant mariners.

Form: CG-705A.

Abstract: This collection of information requires merchant mariners to complete form CG-705A, Shipping Articles, before entering the service of a shipping company.

Annual Estimated Burden Hours: The estimated burden is 18,000 hours a year.

Dated: April 5, 2001.
J. E. Evans,
Acting Director of Information and Technology.

[FR Doc. 01-9180 Filed 4-12-01; 8:45 am]

BILLING CODE 4910-15-U